DEPARTMENT OF HEALTH AND HUMAN SERVICES

National Institutes of Health

National Cancer Institute; Notice of Meeting

Correction

In notice document 04-10610 appearing on page 26174 in the issue of Tuesday, May 11, 2004, make the following correction:

On page 26174, in the first column, after the third full paragraph, in the third line, “Closed: June 2, 2004, 8:30 a.m. to 4:20 p.m.” should read “Open: June 2, 2004, 8:30 a.m. to 4:20 p.m.”.

[FR Doc. C4-10610 Filed 6-1-04; 8:45 am]

BILLING CODE 1505-01-D